DEPARTMENT OF COMMERCE

Bureau of Industry and Security

Emerging Technology and Research Advisory Committee; Notice of Recruitment of Private-Sector Members Date Extension

The Bureau of Industry and Security (BIS) is announcing the creation of and recruiting individuals for a technical advisory committee that will review and provide recommendations to the Department of Commerce on emerging technology and research issues. The Emerging Technology and Research Advisory Committee (ETRAC) will advise the Department and other agency officials on (i) the identification of emerging technologies and research and development activities that may be of interest from a dual-use perspective; (ii) the prioritization of new and existing controls to determine which are of greatest consequence to national security; (iii) the potential impact of dual-use export control requirements on research activities; and (iv) the threat to national security posed by unauthorized export technologies.

DATES: To respond to the recruitment notice, please send a copy of your resume to the individual identified under the ADDRESSES heading. This Notice of Recruitment has been extended until July 22, 2008.

ADDRESSES: Interested parties may submit their resume to Ms. Yvette Springer at Yspringer@bis.doc.gov or mail to U.S. Department of Commerce, Bureau of Industry and Security, 14th Street and Constitution Ave., NW., Room 1093, Washington, DC 20230.

FOR FURTHER INFORMATION CONTACT: Mark Crawford, Office of Technology Evaluation, Bureau of Industry and Security, telephone: (202) 482-4933 or e-mail: mcrawfor@bis.doc.gov.

SUPPLEMENTARY INFORMATION:

Background

BIS is proposing the establishment of a technical advisory committee, the Emerging Technology and Research Advisory Committee (ETRAC), under the terms of section 5(h) of the Export Administration Act of 1979, as amended (EAA), 50 U.S.C. app. 2401-2420 (2000), the International Emergency Economic Powers Act, 50 U.S.C. 1701-1707 (2007), and the Federal Advisory Committee Act (FACA) (5 U.S.C. app. 2 (2005)), which will provide an important vehicle for gathering necessary data as part of the Department's efforts to ensure that export controls continue to apply to sensitive items and keep pace with technological and research innovation without stifling U.S. competitiveness.

BIS's decision to establish the ETRAC drew on three sources: Public comments submitted to BIS last year regarding the Commerce Control List (CCL), the report recently issued by the Deemed Export Advisory Committee (DEAC), a Federal advisory committee charged with making recommendations to the Secretary regarding BIS's deemed export policy and a new Presidential directive calling for BIS to regularly reassess and update the CCL.

First, in response to a notice of inquiry, “Request for Public Comments on a Systematic Review of the Commerce Control List,” published in the Federal Register on July 17, 2007, BIS received public comments stating that the CCL was not keeping pace with technology and suggesting that university experts play a greater role in updating the list.

Second, on December 20, 2007, the DEAC submitted its final report, The Deemed Export Rule in the Era of Globalization, to the Secretary of Commerce. The DEAC recommended that BIS create a panel of outside experts in the fields of science and engineering to conduct a “zero-based” annual review of the list of technologies on the CCL subject to deemed export licensing policy. The DEAC also suggested that the Department increase the focus on and “build higher fences around those elements of technical knowledge that could have the greatest consequences in the national/homeland security sphere by systematically reviewing the Commerce Control List, with advice from independent experts, to eliminate those items and technologies that have little or no such consequences.”

The DEAC's recommendations contained in the report constitute a written request from representatives of a substantial segment of an industry that produces goods or technology subject to export controls, a requirement under section 5(h) of the EAA for the establishment of a technical advisory committee. Specifically, the DEAC's members were senior officials with significant experience in business, educational research, and national homeland security matters related to scientific and engineering knowledge. As such, they represented a substantial segment of an affected industry that produces items subject to export controls, namely, the U.S. technology community, which is engaged in producing technical data and providing technical assistance.

Finally, the President issued a Dual-Use Trade Reform directive on January 22, 2008 that called for export controls to be constantly reassessed to ensure that they control the export and reexport of sensitive items while minimizing their impact on U.S. economic competitiveness and innovation. In order to meet this objective, the President directed the Secretary of Commerce to develop a regularized process that would consider input by technical advisory committees in the review and updating of the CCL.

The ETRAC will be charged with identifying emerging technologies and research and development activities that may be of interest from a dual-use perspective, prioritizing new and existing controls related to deemed exports to determine which are of greatest consequence to national security, and examining how research is performed to understand the impact that the Export Administration Regulations have on academia, federal laboratories, and industry.

Emerging Technology and Research Advisory Committee (ETRAC): Notice of Recruitment of Members. The membership is drawn from both private and public sectors, based on the description below as well as the draft charter.

BIS is recruiting members for the ETRAC. The ETRAC will consist of a maximum of 25 members and will feature a balanced membership that will include diverse points of view. It will consist of experts drawn equally from academia, federal laboratories, and industry to ensure a comprehensive discussion of emerging technologies and research and development activities and their implications with regard to national and economic security. ETRAC members will be appointed by the Secretary of Commerce and serve a term of not more than four consecutive years. Each member must be able to qualify for a Secret clearance prior to appointment. These clearances are necessary so that members may be permitted access to sensitive intelligence and law enforcement information related to the ETRAC's mission. The ETRAC will also reach out to other government and non-government experts to ensure a broad and thorough review of the issues. To respond to the recruitment notice, please send a copy of your resume to Ms. Yvette Springer at Yspringer@bis.doc.gov. This Notice of Recruitment has been extended until July 22, 2008.

Dated: June 23, 2008.
Yvette Springer,
Committee Liaison Officer.

[FR Doc. E8-14494 Filed 6-25-08; 8:45 am]

BILLING CODE 3510-JT-P